DEPARTMENT OF ENERGY

Microgrid Competition

Correction

In notice document 2014-15386 beginning on page 37303 in the issue of Tuesday, July 1, 2014, make the following correction:

On page 37306, in the third column, under “IX. Contact Information,” starting in the second line, Microgrid;Competition@hq.doe.gov should read MicrogridCompetition@hq.doe.gov.

[FR Doc. C1-2014-15386 Filed 7-3-14; 8:45 am]

BILLING CODE 1505-01-D